DEPARTMENT OF HEALTH AND HUMAN SERVICES

Administration for Children and Families

[CFDA Number: 93.568]

The Low-Income Home Energy Assistance Program Announces the State Median Income Estimates for Federal Fiscal Year 2017

AGENCY: Office of Community Services, ACF, HHS

ACTION: Notice.

SUMMARY: The Administration for Children and Families (ACF), Office of Community Services (OCS), announces the State Median Income Estimates for a Four-Person Household for the Federal Fiscal Year (FFY) 2017 State Median Income Estimates for Use in the Low-Income Home Energy Assistance Program (LIHEAP) for FFY 2017 (October 1, 2016, through September 30, 2017).. OCS published the estimates on July 5, 2016 in LIHEAP Information Memorandum (IM) 2016-03 as “State Median Income Estimates for Optional Use in FFY 2016 and Mandatory Use in FFY 2017”. LIHEAP-IM-2016-03 is available at http://www.acf.hhs.gov/programs/ocs/resource/liheap-im-2016-03-state-median-income-estimates-for-optional-use-in-ffy-2016-and-mandatory-use-in-ffy-2017. OCS made the effective date of such estimates July 1, 2016.

DATES: These estimates become effective at any time between July 1, 2016 and the later of (1) October 1, 2016; or (2) the beginning of a grantee's fiscal year.

FOR FURTHER INFORMATION CONTACT: Peter Edelman, Program Analyst, Office of Community Services, 330 C Street SW., 5th Floor, Mail Room 5425, Washington, DC 20201. Telephone: 202-401-5292; Email: peter.edelman@acf.hhs.gov.

SUPPLEMENTARY INFORMATION: This notice announces, for the Low-Income Home Energy Assistance Program (LIHEAP), the estimated median income of four-person households in each state, the District of Columbia, and Puerto Rico for FFY 2017 (October 1, 2016, through September 30, 2017). LIHEAP grantees that choose to base their income eligibility criteria on these state median income (SMI) estimates may adopt these estimates (up to 60 percent) on July 1, 2016 or on a later date as discussed in the “DATES” section. This enables grantees to implement this notice during the period between the heating and cooling seasons. However, by October 1, 2016, or the beginning of the grantee's fiscal year, whichever is later, grantees must adjust their income eligibility criteria so that they are in accord with the FFY 2017 SMI.

Sixty percent of SMI for each LIHEAP grantee, as annually established by the Secretary of Health and Human Services, is one of the income criteria that LIHEAP grantees may use in determining a household's income eligibility for LIHEAP.

The SMI estimates in this notice are five-year estimates derived from the American Community Survey (ACS) conducted by the U.S. Census Bureau, U.S. Department of Commerce (Census Bureau). The use of the five-year data to derive the SMI estimates represents a change from the past nine years, during which OCS used three-year data to derive such estimates. The reasons for this change are (1) the Census Bureau's cessation of the three-year data; and (2) the fact that the five-year data provides a more robust replacement option than the one-year data.

For additional information about the ACS state median income estimates, including the definition of income and the derivation of medians see http://www.census.gov/acs/www/Downloads/data_documentation/SubjectDefinitions/2013_ACSSubjectDefinitions.pdf under “Income in the Past 12 Months.” For additional information about using the ACS five-year estimates versus using the one-year estimates, see http://www.census.gov/acs/www/guidance_for_data_users/estimates/. For additional information about the ACS in general, see http://www.census.gov/acs/www/ or contact the Census Bureau's Social, Economic, and Housing Statistics Division at (301) 763-3243. For additional information about the accuracy of the ACS SMI estimates, see http://www.census.gov/acs/www/Downloads/data_documentation/Accuracy/MultiyearACSAccuracyofData2013.pdf.

In the state-by-state listing of SMI and 60 percent of SMI for a four-person family for FFY 2017, LIHEAP grantees must regard “family” to be the equivalent of “household” with regard to setting their income eligibility criteria. This listing describes the method for adjusting SMI for households of different sizes, as specified in regulations applicable to LIHEAP (45 CFR 96.85(b)). These regulations were published in the Federal Register on March 3, 1988, (53 FR 6827) and amended on October 15, 1999 (64 FR 55858).

Estimated State Median Income for Four-Person Families, by State, for Federal Fiscal Year (FFY) 2017, for Use in the Low-Income Home Energy Assistance Program (LIHEAP)
States | Estimated state median income for four-person families ¹ | 60 percent of estimated state median income for four-person families 2 3
Alabama | $67,621 | $40,573
Alaska | 95,967 | 57,580
Arizona | 67,273 | 40,364
Arkansas | 60,481 | 36,289
California | 80,458 | 48,275
Colorado | 87,928 | 52,757
Connecticut | 108,592 | 65,155
Delaware | 88,703 | 53,222
District of Columbia | 98,640 | 59,184
Florida | 67,643 | 40,586
Georgia | 70,132 | 42,079
Hawaii | 88,921 | 53,353
Idaho | 64,234 | 38,540
Illinois | 85,516 | 51,310
Indiana | 73,397 | 44,038
Iowa | 80,299 | 48,179
Kansas | 77,760 | 46,656
Kentucky | 70,084 | 42,050
Louisiana | 73,263 | 43,958
Maine | 78,749 | 47,249
Maryland | 109,262 | 65,557
Massachusetts | 108,978 | 65,387
Michigan | 77,718 | 46,631
Minnesota | 94,387 | 56,632
Mississippi | 59,701 | 35,821
Missouri | 74,162 | 44,497
Montana | 71,453 | 42,872
Nebraska | 78,773 | 47,264
Nevada | 68,978 | 41,387
New Hampshire | 100,496 | 60,298
New Jersey | 109,113 | 65,468
New Mexico | 61,783 | 37,070
New York | 88,451 | 53,071
North Carolina | 70,000 | 42,000
North Dakota | 88,621 | 53,173
Ohio | 78,166 | 46,900
Oklahoma | 66,088 | 39,653
Oregon | 72,518 | 43,511
Pennsylvania | 85,036 | 51,022
Rhode Island | 91,452 | 54,871
South Carolina | 66,542 | 39,925
South Dakota | 76,511 | 45,907
Tennessee | 67,026 | 40,216
Texas | 71,307 | 42,784
Utah | 72,805 | 43,683
Vermont | 84,421 | 50,653
Virginia | 94,667 | 56,800
Washington | 86,744 | 52,046
West Virginia | 68,750 | 41,250
Wisconsin | 83,893 | 50,336
Wyoming | 81,632 | 48,979
Puerto Rico | 29,598 | 17,759
¹ These figures were prepared by the U.S. Census Bureau, U.S. Department of Commerce (Census Bureau), from five-year estimates from the 2010, 2011, 2012, 2013, and 2014 American Community Surveys (ACSs). These estimates, like those derived from any survey, are subject to two types of error: (1) Non-sampling Error, which consists of random errors that increase the variability of the data and non-random errors that consistently direct the data in a specific direction; and (2) Sampling Error, which consists of the error that arises from the use of probability sampling to create the sample.
² These figures were calculated by the U.S. Department of Health and Human Services, Administration for Children and Families, Office of Community Services, Division of Energy Assistance by multiplying the estimated state median income for a four-person family for each state by 60 percent.
³ To adjust for different sizes of households for LIHEAP purposes, 45 CFR 96.85 calls for multiplying 60 percent of a state's estimated median income for a four-person family by the following percentages: 52 percent for a one-person household, 68 percent for a two-person household, 84 percent for a three-person household, 100 percent for a four-person household, 116 percent for a five-person household, and 132 percent for a six-person household. For each additional household member above six people, 45 CFR 96.85 calls for adding three percentage points to the percentage for a six-person household (132 percent) and multiplying the new percentage by 60 percent of the median income for a four-person family.

Statutory Authority: LIHEAP was last authorized by the Energy Policy Act of 2005, Pub. L. 109-58, which was enacted on August 8, 2005. This authorization expired on September 30, 2007, and reauthorization remains pending. The formula used to derive the SMI is authorized by 42 U.S.C. 8624(b)(2)(B)(ii).

Mary M. Wayland,
Senior Grants Policy Specialist, Division of Grants Policy, Office of Administration.

[FR Doc. 2016-19922 Filed 8-22-16; 8:45 am]

BILLING CODE 4184-80-P